DEPARTMENT OF ENERGY

Agency Information Collection Extension

AGENCY: Department of Energy.

ACTION: Submission for Office of Management and Budget (OMB) review; comment request.

SUMMARY: The Department of Energy (DOE) has submitted an information collection request to the OMB for extension under the provisions of the Paperwork Reduction Act of 1995. The information collection requests a three-year extension of its Human Reliability Program (HRP), OMB Control Number 1910-5122. This information collection consists of forms that will certify to DOE that respondents were advised of the requirements for occupying or continuing to occupy an HRP position. The forms include: Human Reliability Program Certification (DOE F 470.3), Acknowledgement and Agreement to Participate in the Human Reliability Program (DOE F 470.4), Authorization and Consent to Release Human Reliability Program (HRP) Records in Connection with HRP (DOE F 470.5), Refusal of Consent (DOE F 470.6), and Human Reliability Program (HRP) Alcohol Testing Form (DOE F 470.7). The HRP is a security and safety reliability program for individuals who apply for or occupy certain positions that are critical to the national security. It requires an initial and annual supervisory review, medical assessment, management evaluation, and a DOE personnel security review of all applicants or incumbents. It is also used to ensure that employees assigned to nuclear explosive duties do not have emotional, mental, or physical conditions that could result in an accidental or unauthorized detonation of nuclear explosives.

DATES: Comments regarding this collection must be received on or before April 6, 2016. If you anticipate that you will be submitting comments, but find it difficult to do so within the period of time allowed by this notice, please advise the OMB Desk Officer of your intention to make a submission as soon as possible. The Desk Officer may be telephoned at 202-395-4650.

ADDRESSES: Written comments should be sent to the DOE Desk Officer, Office of Information and Regulatory Affairs, Office of Management and Budget, New Executive Office Building, Room 10102, 735 17th Street NW., Washington, DC 20503 and to Regina Cano U.S. Department of Energy, Office of Corporate Security Strategy, Analysis and Special Operations (AU-1.2), 1000 Independence Ave. SW., Washington, DC 20585, telephone at (202) 586-7079, by fax at (202) 586-3333, or by email at regina.cano@hq.doe.gov, or information about the collection instruments may be obtained at http://energy.gov/ehss/information-collection.

SUPPLEMENTARY INFORMATION: This information collection request contains: (1) OMB No. 1910-5122; (2) Information Collection Request Title: Human Reliability Program; (3) Type of Review: Renewal; (4) Purpose: This collection provides for DOE management to ensure that individuals who occupy HRP positions meet program standards of reliability and physical and mental suitability; (5) Annual Estimated Number of Respondents: 43,960; (6) Annual Estimated Number of Total Responses: 43,999; (7) Annual Estimated Number of Burden Hours: 3,819; (8) Annual Estimated Reporting and Recordkeeping Cost Burden: $332,253; and (9) Response Obligation: Mandatory.

Statutory Authority: 42 U.S.C. 2165; 42 U.S.C. 2201; 42 U.S.C. 5814-5815; 42 U.S.C. 7101 et seq.; 50 U.S.C. 2401 et seq.; E.O. 10450, 3 CFR 1949-1953 Comp., p. 936, as amended; E.O. 10865, 3 CFR 1959-1963 Comp., p. 398, as amended; 3 CFR Chap. IV.

Issued in Washington, DC, on February 26, 2016.
Stephanie K. Martin,
Acting Director, Office of Resource Management, Office of Environment, Health, Safety and Security.

[FR Doc. 2016-04978 Filed 3-4-16; 8:45 am]

BILLING CODE 6450-01-P